DEPARTMENT OF TRANSPORTATION

Federal Highway Administration

Environmental Impact Statement; Pinal County, AZ

AGENCY: Federal Highway Administration (FHWA), DOT.

ACTION: Notice of Intent.

SUMMARY: The FHWA is issuing this notice to advise the public that an Environmental impact Statement will be prepared for a proposed transportation project in Pinal County, Arizona.

FOR FURTHER INFORMATION CONTACT: Kenneth H. Davis, Senior Engineering Manager for Operations, Federal Highway Administration, 4000 N. Central Avenue, Suite 1500, Phoenix, Arizona 85012-1906, Telephone (602) 382-8970, Fax (602) 382-8998, e-mail: Ken.davis@dot.gov; or Mary Frye, Environmental Coordinator, Federal Highway Administration, Arizona Division, 4000 N. Central Avenue, Suite 1500, Phoenix, Arizona 85012-1906, Telephone (602) 382-8979, Fax (602) 382-8998, e-mail: Mary.Frye@dot.gov.

SUPPLEMENTARY INFORMATION: The FHWA, in cooperation with the Arizona Department of Transportation (ADOT), will prepare an environmental impact statement (EIS) on a proposed 40-mile-long project along a new route located between US 60 on the north and Interstate 10 (I-10) on the south. The project is considered necessary to achieve a transportation objective identified in Pinal County's 2008 Regionally Significant Routes for Safety and Mobility. The project would address current and future transportation needs in an area that currently exceeds existing road capacity and is expected to continue to worsen with the projected increase in traffic demand associated with regional growth.

The proposed project evaluation will include, but not be limited to, potential impacts to adopted local and regional land use plans, Tribal lands, the existing and proposed Maricopa, Pinal, and Pima County regional transportation network, Central Arizona Project canals, railroads, residential and commercial development, cultural resources, Threatened and Endangered species, jurisdictional waters of the United States, air and noise quality, hazardous materials, and secondary and cumulative impacts. A full range of reasonable alternatives will be evaluated, including taking no action, using alternative transportation modes, making transportation system management improvements, a combination of arterial and freeway improvements, a new freeway, and combinations of these alternatives.

The EIS will conform to the environmental review process established in Section 6002 of the Safe, Accountable, Flexible, Efficient Transportation Equity Act: A Legacy for Users (SAFETEA-LU). The Section 6002 environmental review process requires the following activities: the identification and invitation of cooperating and participating agencies; the development of a coordination plan and management plan; and provision of opportunities for additional agency and public comment on the project's purpose and need, alternatives and methodologies for assessing alternatives. Additionally, the public hearing following the release of the draft EIS will also be provided. Public notice advertisements and direct mailings will notify interested parties of the time and place of public meetings and public hearing. A formal agency scoping meeting is planned between federal, state, city, county, and Tribal stakeholders.

Letters describing the proposed action and soliciting comments will be sent to appropriate Federal, State, and local agencies, including the U.S. Army Corps of Engineers, U.S. Fish and Wildlife Service, U.S. Environmental Protection Agency, U.S. Department of the Interior Bureau of Reclamation, Federal Emergency Management Agency, U.S. Department of the Interior Bureau of Land Management, U.S. Department of Agriculture Natural Resources Conservation Service, Federal Aviation Administration, Federal Transit Administration, U.S. Department of Energy Western Area Power Administration, Arizona Game and Fish Department, Arizona State Land Department, Arizona Department of Environmental Quality, Arizona State Parks, Arizona Department of Emergency and Military Affairs, Arizona Department of Public Safety, Arizona Department of Corrections, Arizona Attorney General's Office, Gila River Indian Community, Salt River Pima-Maricopa Indian Community, Ak-Chin Indian Community, Tohono O'odham Nation, Hopi Tribe, Pascua Yaqui Tribe, San Carlos Apache Nation, White Mountain Apache Tribe, Yavapai-Prescott Indian Tribe, Yavapai-Apache Nation, Salt River Project, Phoenix-Mesa Gateway Airport Authority, Town of Florence, City of Coolidge, City of Eloy, City of Queen Creek, Town of Gilbert, City of Mesa, City of Apache Junction, City of Casa Grande, Town of Marana, Pima County, Maricopa Association of Governments, Pima Association of Governments, Pinal County, Central Arizona Project, and Central Arizona Association of Governments. Letters will also be sent to interested parties, including the Union Pacific Railroad, San Carlos Irrigation District and Resolution Copper Mining.

To insure that the full range of issues related to this proposed action is addressed and all significant issues are identified, comments and suggestions are invited from all interested parties. Comments, suggestions, or questions concerning this proposed action and the EIS should be directed to the FHWA at the address provided above.

(Catalog of Federal Domestic Assistance Program No. 20.205, Highway Planning and Construction. The regulations implementing Executive Order 12372 regarding intergovernmental consultation on Federal programs and activities apply to this program.)

Issued on: September 10, 2010.
Kenneth H. Davis,
Senior Engineering Manager for Operations, Federal Highway Administration, Arizona Division Office, Phoenix, Arizona.

[FR Doc. 2010-23296 Filed 9-17-10; 8:45 am]

BILLING CODE 4910-22-M